DEPARTMENT OF THE INTERIOR

Bureau of Land Management

[16X LLIDB00100.LF1000000.HT0000.LXSS024D0000.241A00]

Notice of Public Meeting: Resource Advisory Council (RAC) to the Boise District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC), will hold a meeting as indicated below.

DATES: The meeting will be held August 3, 2016, at the Boise District Office, 3948 Development Avenue, Boise, Idaho 83705 beginning at 9:00 a.m. and adjourning by 4:00 p.m. Members of the public are invited to attend. A public comment period will be held from 11:00 a.m. to 11:15 a.m.

FOR FURTHER INFORMATION CONTACT: Larry Ridenhour, Public Affairs Specialist and RAC Coordinator, BLM Boise District, 3948 Development Ave., Boise, Idaho 83705, telephone (208) 384-3393.

SUPPLEMENTARY INFORMATION: The 15-member Council advises the Secretary of the Interior, through the BLM, on a variety of planning and management issues associated with public land management in southwestern Idaho. During the August meeting the Boise District RAC will receive updates on Soda Fire emergency stabilization and rehabilitation actions, sage-grouse conservation implementation efforts, programmatic assessments for herbicide treatments and vegetation seeding projects and management actions associated with Skinny Dipper Hot Springs. The RAC's subcommittee on the proposed Tri-State Fuel Breaks Project will report on their meetings to date. Agenda items and location may be modified due to changing circumstances. The public may present written or oral comments to members of the Council. At each full RAC meeting, time is provided in the agenda for hearing public comments. Depending on the number of persons wishing to comment and time available, the time for individual oral comments may be limited. Individuals who plan to attend and need special assistance should contact the BLM Coordinator as provided above. Persons who use a telecommunications device for the deaf (TDD) may call the Federal Information Relay Service (FIRS) at 1-800-877-8339. The FIRS is available 24 hours a day, 7 days a week, to leave a message or questions. You will receive a reply during normal business hours.

Dated: June 30, 2016.
Lara Douglas,
District Manager.

[FR Doc. 2016-16080 Filed 7-6-16; 8:45 am]

BILLING CODE 4310-GG-P